DEPARTMENT OF ENERGY

Record of Decision for Final Environmental Impact Statement for Remediation of Area IV and the Northern Buffer Zone of the Santa Susana Field Laboratory, California

AGENCY: Office of Environmental Management, U.S. Department of Energy.

ACTION: Record of decision.

SUMMARY: The U.S. Department of Energy (DOE) announces its decision to demolish the 18 buildings it owns in Area IV of the Santa Susana Field Laboratory (SSFL) and dispose of or recycle the materials off site. This action will be taken in accordance with applicable federal, state, and local requirements. (The demolition of five of the eighteen buildings and the disposal of the resulting debris will be accomplished pursuant to closure plans approved by the California Department of Toxic Substances Control.) This action will also be taken consistent with agreements and decisions resulting from interagency consultations conducted in accordance with applicable federal, state, and local requirements, including the Programmatic Agreement executed with the California State Historic Preservation Officer pursuant to the National Historic Preservation Act and the Biological Opinion issued by the U.S. Fish and Wildlife Service pursuant to the Endangered Species Act.

ADDRESSES: This Record of Decision (ROD), the SSFL Area IV Final Environmental Impact Statement (EIS), and related NEPA documents are available at the DOE SSFL Area IV website (http://etec.energy.gov) and the DOE NEPA website (http://energy.gov/nepa).

FOR FURTHER INFORMATION CONTACT: For further information on the SSFL FEIS, the ROD, and DOE cleanup actions within Area IV of SSFL and the Northern Buffer Zone, please contact Ms. Stephanie Jennings, ETEC National Environmental Policy Act (NEPA) Compliance Officer, U.S. Department of Energy at stephanie.jennings@emcbc.doe.gov. For general information on DOE's NEPA process, please contact Mr. Bill Ostrum, Acting NEPA Compliance Officer, U.S. Department of Energy, Office of Environmental Management, 1000 Independence Avenue SW, Washington, DC 20585-0103: Telephone: (202) 586-2513; or Email: william.ostrum@hq.doe.gov.

SUPPLEMENTARY INFORMATION:

Background

DOE prepared the SSFL Area IV Final EIS (DOE/EIS-0402) in accordance with NEPA (42 U.S.C 4321 et seq.), CEQ NEPA regulations (40 CFR parts 1500-1508), and DOE's NEPA Implementing Procedures (10 CFR part 1021). DOE announced its intent to prepare an EIS on May 16, 2008 (73 FR 28437) and conducted public scoping. DOE prepared a Draft EIS and distributed it to interested parties. Following the U.S. Environmental Protection Agency (EPA) Notice of Availability of the SSFL Area IV Draft EIS (82 FR 4336; January 13, 2017), DOE conducted public hearings and invited comment on the Draft EIS. After considering comments received on the Draft EIS, DOE addressed the comments and prepared a Final EIS that was issued with EPA's Notice of Availability (83 FR 67282; December 28, 2018).

SSFL, located on approximately 2,850 acres in the hills between Chatsworth and Simi Valley, California, was developed as a remote site to test rocket engines and conduct nuclear research. Rocket engine testing by North American Aviation (later Rockwell International (Rocketdyne)) began in 1947. In the mid-1950s, the Atomic Energy Commission (AEC), a predecessor agency to DOE, funded nuclear research on a 90-acre parcel within Area IV of SSFL. The Energy Technology Engineering Center (ETEC) was established on this parcel as a “center of excellence” for liquid metals research. A total of 10 small reactors were built and operated as part of nuclear research that ended in 1982. DOE-directed liquid metals research continued until 1998.

During the years of research activities within Area IV, there were more than 270 numbered structures supporting the research (structures included occupied buildings, storage sheds, tanks, transformers, loading docks, etc.). As the mission associated with each structure was completed, the structure was decontaminated, demolished, and the debris transported offsite for disposal. There was no DOE-sponsored development within the Northern Buffer Zone (NBZ).

By 2006, only 18 DOE-owned numbered structures (buildings and sheds) remained in Area IV. Operations within five of the structures were conducted under two Resource Conservation and Recovery Act (RCRA) permits issued by the State of California Department of Toxic Substances Control (DTSC). The remaining 13 buildings were operated pursuant to DOE requirements and other applicable laws and regulations.

The RCRA permitted structures at the Radioactive Materials Handling Facility (RMHF) include:

• Building 4021—Decontamination and Packaging Facility (for radioactive material)

• Building 4022—Radioactive Storage Building (for reactor fuel)

• Building 4621—Interim storage facility for contaminated equipment and source materials

The RCRA permitted structures at the Hazardous Waste Management Facility (HWMF) include:

• Building 4029—storage of non-radioactive chemical wastes

• Building 4133—treatment of reactive (potassium and sodium) metals

The non-RCRA-permitted structures include:

• Building 4019—Systems for Nuclear Auxiliary Power (SNAP) criticality tests

• Building 4024—SNAP reactor testing

• Building 4038—ETEC office building

• Building 4057—sodium test rig housing/currently a warehouse

• Building 4034—RMHF office building

• Building 4044—RMHF clean shop

• Structure 4075—RMHF radioactive waste storage area

• Structure 4563—RMHF radioactive waste storage area

• Structure 4658—RMHF guard shack

• Building 4665—RMHF oxidation facility

• Structure 4688—RMHF storage shed

• Building 4462—Sodium Pump Test Facility (SPTF)

• Building 4463—SPTF support building

Purpose and Need for Agency Action

DOE's purpose and need for action remains as stated in the SSFL Area IV Final EIS. DOE needs to complete remediation of Area IV and the NBZ to comply with applicable requirements for cleanup of radiological and non-radiological hazardous substances. Pursuant to this ROD, DOE has decided to remove the remaining 18 DOE-owned structures in Area IV of SSFL in a manner that is protective of the environment and the health and safety of the public and its workers. (The demolition of five of these buildings requires closure plans approved by DTSC.)

Proposed Action

DOE's proposed action that is the subject of this ROD is to demolish the 18 DOE-owned buildings in Area IV and transport the resulting waste off site for disposal. Demolition of 13 facilities and disposition of the resulting debris will be in accordance with DOE requirements and applicable laws and regulations. Three facilities at the RMHF and the two facilities comprising the HWMF will be closed in accordance with California DTSC-approved RCRA facility closure plans. By doing so, DOE will no longer have a long-term safety and environmental liability at SSFL related to buildings, and removal is consistent with the future land use as open space/recreational. This action allows DOE to sample soil beneath the buildings, completing soil characterization for chemicals and radionuclides. In the SSFL Area IV Final EIS, DOE identified the potential environmental impacts associated with soil remediation, groundwater remediation, and building demolition. However, this ROD only addresses DOE's decision for building demolition. Subsequent ROD(s) will be developed when DOE makes a decision for soil and groundwater remediation.

Alternatives

In the SSFL Area IV Draft and Final EIS, DOE evaluated the No Action, Alternative Use of Area IV Buildings, and Building Removal alternatives. The Alternative Use of Area IV Buildings was dismissed in the SSFL Area IV Draft EIS as a viable alternative because DOE does not own the land, and Boeing, the land owner, has established conservation easements and agreements designating the future use of its land as open space/recreational. There is no viable purpose for reuse of the buildings and their removal is consistent with Boeing's land-use plans. Under the No Action Alternative, none of the 18 structures would be removed, but as required by the Atomic Energy Act of 1954, as amended, DOE would still be responsible for long-term surveillance, maintenance, and security. The Building Removal Alternative would involve complete removal of the buildings and foundations (except for the concrete slabs of Buildings 4462 and 4463 which are owned by Boeing) with offsite disposal of debris at permitted or authorized facilities in accordance with its waste classification.

Potential Environmental Impacts

In the SSFL Area IV Final EIS DOE analyzed environmental issues and the potential impacts, including land resources, geology and soils, surface water, groundwater, biology, air quality and climate change, noise, transportation and traffic, human health, waste management, cultural resources, socioeconomics, environmental justice, and sensitive-aged populations. DOE also evaluated the potential impacts of the irreversible and irretrievable commitment of resources, the short-term uses of the environment, and the maintenance and enhancement of long-term productivity. These analyses and results are described in the SSFL Area IV Final EIS, including the Summary and in Section 2.8 of the SSFL Area IV Final EIS.

In identifying the preferred alternative for building demolition and disposal, and in making the decision announced in this ROD, DOE considered the potential impacts that would result from the building removal. Table S-8 of the SSFL Area IV Final EIS Summary also provides a summary and comparison of potential environmental consequences associated with each alternative. The impacts to the physical, social, and natural environments will be minimal and manageable.

Environmentally Preferable Alternative

The environmentally preferable alternative is the complete removal of all 18 buildings and structures. The deteriorating buildings have the potential to release contamination (e.g., heavy metals) and could be a safety risk to wildlife attempting to enter or occupy them. Complete removal also is consistent with Boeing's commitment to return its portion of SSFL to open space/recreational use.

Permits, Consultations, and Notifications

DOE will demolish and dispose of the RMHF and HWMF buildings in accordance with the closure plans approved by California DTSC. DOE has coordinated the processes associated with NEPA and Section 106 of the National Historic Preservation Act, codified at 54 U.S.C. 306108, and complied with Section 106 requirement through completion of the Programmatic Agreement with the California State Historic Preservation Officer (September 13, 2019). DOE also consulted with the U.S. Fish and Wildlife Service (USFWS) for compliance with Section 7 of the Endangered Species Act, codified at 16 U.S.C. 1536. Area IV of SSFL includes federally-designated critical habitat for the endangered Braunton's milk-vetch. USFWS issued its Biological Opinion related to DOE's proposed actions on August 28, 2018 (http://www.ssflareaiveis.com/documents/feis/Biological%20Opinion.pdf).

Public and Agency Involvement

Following the 2007 Federal court decision resulting from a legal challenge to the 2003 Environmental Assessment (EA) Finding of No Significant Impact (FONSI), DOE published in the Federal Register its Advanced Notice of Intent (ANOI) to prepare an EIS on October 17, 2007 (72 FR 58834). The ANOI was issued to request early comments and to obtain input on the scope of the EIS. The NOI to prepare an EIS and to announce scoping meetings was published in the Federal Register on May 16, 2008 (73 FR 28437). The public scoping period started on May 16, 2008 and continued through August 14, 2008. Scoping meetings were held in Simi Valley, California (July 22, 2008), Northridge, California (July 23, 2008), and Sacramento, California (July 24, 2008).

Preparation of the Draft EIS was delayed due to the need to collect soil and groundwater characterization data for Area IV and the NBZ. The lack of characterization data was one of EPA's and the State of California's comments on the 2003 EA. EPA collected characterization data for radionuclides from October 2010 to December 2012. DOE (under DTSC oversight) collected characterization data for chemicals from October 2010 to June 2014. While the characterization data were being collected, DOE ETEC continued public involvement through release of newsletters and conducting Community Alternatives Development Workshops in 2012. Due to the length of time between the 2008 NOI and completion of characterization, DOE published in the Federal Register on February 7, 2014, an Amended NOI for the SSFL Area IV EIS (79 FR 7439). Additional scoping meetings were held in Simi Valley, California on February 27, 2014, and in Agoura Hills/Calabasas, California on March 1, 2014. The scoping period ended on March 10, 2014. The Notice of Availability of the SSFL Area IV Draft EIS was published in the Federal Register on January 13, 2017 (82 FR 4336). An Amended Notice Extending the Comment Period to April 13, 2017 was published in the Federal Register on March 17, 2017 (82 FR 14218).

Comments Received on the Final Environmental Impact Statement for Remediation of Area IV and the Northern Buffer Zone of the Santa Susana Field Laboratory

The Notice of Availability of the SSFL Area IV Final EIS was published in the Federal Register on December 28, 2018 (83 FR 67282). DOE distributed the SSFL Area IV Final EIS to Members of Congress, State and local governments; other Federal agencies; culturally-affiliated American Indian tribal governments; non-governmental organizations; and other stakeholders including members of the public who requested the document. Also, the SSFL Area IV Final EIS was made available via the internet (http://www.SSFLAreaIVEIS.com). In the SSFL Area IV Final EIS, DOE announced the preferred alternative for building demolition as the Building Removal Alternative.

DOE received 885 letters or emails regarding the SSFL Area IV Final EIS. DOE considered all comments contained in the letters and emails received subsequent to publication of the FEIS. Some of the comments reiterated issues raised during the comment period on the SSFL Area IV Draft EIS, which DOE previously evaluated and provided responses to those comments in the SSFL Area IV Final EIS, Volume 3, Comment/Response Document. Comments previously considered and responded to on the SSFL Area IV Draft EIS are not being addressed anew in this response to comments on the Final EIS. Relevant to this ROD on Building Demolition, DOE has no additional responses specifically to the following items that were raised in comments on the SSFL Area IV Final EIS which were addressed in the response to comments received on the SSFL Area IV Draft EIS:

• Comments that DOE needs to take responsibility and perform a full cleanup; that less would not be protective of human health and safety.

• Comments that DOE's proposed cleanup alternatives would leave contamination that could migrate from the site.

• Comments that the health of the local population would be threatened by the continued onsite presence of contaminants.

• Comments that DOE must comply with all laws and commitments, including the 2010 Administrative Order on Consent (AOC).

• Comments that DOE needs to comply with RCRA standards, enforced by DTSC, and that DOE does not intend to comply; the alternatives presented are attempts by DOE to usurp DTSC authority.

• Comments regarding DOE's failure to address only alternatives that comply with the AOC.

• Comments incorporated by reference by the City of Los Angeles.

This section of the ROD addresses comments that are generally applicable to the SSFL Area IV Final EIS, including any that are relevant to the building demolition and disposal decision. Comments generally applicable to the SSFL Area IV Final EIS address compliance with laws and regulations (e.g., NEPA) and include those related to how the Woolsey fire affected the site and the NEPA analysis.

DOE received comment letters from the EPA, Region IX; DTSC; The Boeing Company; City of Los Angeles; Natural Resources Defense Council/Committee to Bridge the Gap; Physicians for Social Responsibility—Los Angeles; Rocketdyne Cleanup Coalition; Southern California Federation of Scientists; and the SSFL Community Advisory Group. DOE also received 876 comment emails from individuals. The primary topics of the comments are NEPA compliance, soil remediation, groundwater remediation, the Biological Opinion, and the Woolsey Fire. No new comments specific to the building demolition alternative, its impacts, or status of the building removal preferred alternative were received on the SSFL Area IV Final EIS. The topics below summarize the comments received related to building demolition, the SSFL Area IV Final EIS, and the proposed action in general. DOE has responded to each topic. Comments and comment topics related to soil or groundwater remediation are not addressed below because they are not relevant to the decision being made in this ROD. Comments related to soil and groundwater remediation will be addressed in the future ROD(s). DOE reviewed and responded to all comments received through March 28, 2019. There were no comments received after that date.

Topic A—National Environmental Policy Act (NEPA) Compliance: Commenters stated that DOE violated NEPA by issuing a SSFL Area IV Final EIS that was substantially changed from the SSFL Area IV Draft EIS published for public comment. Commenters asserted that 50 to 60 percent of the SSFL Area IV Final EIS was new material that the public had not been provided an opportunity to review and comment on and DOE had therefore, not provided its responses to any such comments. Commenters asserted that DOE failed to comply with its duties under the law or its failure to include certain information in the Draft EIS for public review is a violation of NEPA. A commenter repeated an assertion made in the comments on the Draft EIS that the EIS violates NEPA because it evaluates actions that DOE does not have the discretion to take.

Various requests were made regarding review of the SSFL Area IV Final EIS. Some commenters requested that the review period for the SSFL Area IV Final EIS be extended. Some commenters requested recirculating the SSFL Area IV Final EIS for public comment and others requested withdrawing the current document and issuing a new SSFL Area IV Final EIS that the commenters asserted would be compliant with NEPA.

Response: Commenters are incorrect in their assertion that DOE has violated NEPA. NEPA regulations require agencies to analyze the potential environmental impacts associated with a proposed action, to issue a Draft EIS for public comment (40 CFR 1503.1), and to respond to comments (40 CFR 1503.4). NEPA regulations also state that the agency may not make a decision on a proposed action until 30 days after the Federal Register announcement of a final EIS (40 CFR 1506.10). In accordance with NEPA regulations, in preparing the Final EIS, DOE made revisions to reflect more recent information and to respond to comments received on the SSFL Area IV Draft EIS. Much of the additional material in the Final EIS was in response to comments on the Draft EIS. In Section 1.11 of the Final EIS, DOE summarized the major factors that resulted in changes. Comments that resulted in changes are also summarized and described in greater detail in Volume 3, the Comment Response Document. The Federal Register notification of the SSFL Area IV Final EIS was published on December 28, 2018, and indicated that a 30-day review period would end on January 28, 2019. During the period from December 28, 2018, until the issuance of this ROD, DOE received 885 submittals regarding the SSFL Area IV Final EIS. DOE received comments through March 28, 2019 and considered those comments in the development of this ROD. There were no comments received after March 28, 2019.

By submitting comments on the SSFL Area IV Final EIS, organizations and individuals demonstrated that they did have an opportunity to review and comment on the Area IV Final EIS. Having reviewed and considered comments received, DOE has determined that there is no need to reissue the SSFL Area IV Final EIS (or issue a new or supplemental EIS). DOE has met its obligations under NEPA for public input and review. Public involvement and review opportunities included two scoping periods, alternatives development workshops, and a comment period on the Draft EIS. Additionally, DOE considered comments received on the SSFL Area IV Final EIS.

Topic B—Responses to Comments on the Draft EIS: Commenters stated that DOE failed to substantively and adequately respond to comments received on the SSFL Area IV Draft EIS. Commenters noted that there are many pages purporting to respond to comments, but claimed that the responses do not meet DOE's requirements under NEPA. Some commenters also claimed that DOE changed the EIS without a meaningful explanation of the changes in responding to the comments on the SSFL Area IV Draft EIS. One commenter specifically noted that “DOE has not fairly addressed opposing scientific and legal viewpoints.”

Response: DOE carefully reviewed, considered and responded to all comments on the SSFL Area IV Draft EIS. The commenters failed to provide examples to support their allegations that DOE did not substantively and adequately respond to comments on the SSFL Area IV Draft EIS. One commenter cited a federal court decision, but failed to provide a specific instance of its relevance to the SSFL Area IV Final EIS content. DOE performed a careful review and analysis of the comment documents (letters, emails, hearing transcripts) received on the SSFL Area IV Draft EIS to identify individual comments. DOE performed a comment-by-comment review and prepared an individual response to each comment. The resulting Comment Response Document (Volume 3 of the SSFL Area IV Final EIS) represents 1,363 comment documents. The comments and responses to those comments can be found in the 1,675 pages in the Comment Response Document.

Topic C—Resource Conservation and Recovery Act (RCRA) Compliance: Commenters stated that the SSFL Area IV Final EIS violated RCRA. Commenters repeated a comment made on the SSFL Area IV Draft EIS, which DTSC, as the regulator, rather than DOE, decides how much contamination must be cleaned up.

Response: The preparation and issuance of the SSFL Area IV Final EIS, which is not a decision document, is not a violation of RCRA. DOE recognizes that DTSC has regulatory authority for RCRA decisions and introduced DTSC's authorities on page 1-4 of the SSFL Area IV Final EIS. As discussed in the SSFL Area IV Final EIS (Section 1.9), DOE has prepared and submitted to DTSC RCRA closure plans addressing DOE's five RCRA-regulated buildings in Area IV.

Topic D—Misrepresentation of Related Documents: Commenters were concerned that DOE mischaracterizes the AOC and the 2007 Federal court order in Natural Resources Defense Council, Inc., Committee to Bridge the Gap, and City of Los Angeles v. Department of Energy, et al. (NRDC v. DOE), (Case No. 3:04-CV-04448-SC, May 7, 2007). The commenter stated that DOE implies that its obligations under the AOC are “suspended” because of a section of the AOC stating that if there are inconsistencies between the AOC and the court's decision, DOE would work with the parties to request any relief needed. The commenter asserts that this ruling applied only to the need to remove DOE buildings in order to take soil measurements beneath them for the SSFL Area IV Final EIS.

Response: In the SSFL Area IV Final EIS, DOE characterized the relationship of the EIS, AOC, and 2007 Federal court order in Sections 1.3, 1.9, 1.11, 2.2, 2.7, and Comment Response Document, Section 2.2. Claims that DOE breached the AOC or failed to comply with the AOC were addressed in the response to comments on the SSFL Area IV Draft EIS (e.g., response to comment 72-2). Section 6.2 of the AOC states: “In the event that DOE and DTSC are not successful in obtaining relief from that order, DOE's obligations under this Order shall be stayed. The Parties shall thereupon undertake to agree upon a procedure for environmental review that would meet the requirements of the injunction in NRDC v. DOE and make any necessary modifications to this Order.” Since the parties did not get relief from the Order, the SSFL Area IV Draft and Final EIS provide the required environmental review and, pursuant to the AOC, DOE will work with DTSC to make any appropriate modifications to the AOC.

Topic E—Biological Opinion Development Process: Commenters submitted a number of comments raising concerns about the development and use of the Biological Opinion developed by the USFWS. Some commenters took issue with the manner in which DOE consulted with USFWS, asserting that DOE requested consultation for an action that would violate the AOC. Commenters note that the Biological Opinion does not make a jeopardy determination. Commenters therefore asserted that no exception to the AOC criterion is allowed, because the Biological Opinion issued makes no finding that the cleanup action would violate specific sections of the Endangered Species Act as identified in the AOC. A commenter also implied that there were misrepresentations in the Biological Assessment prepared by DOE that USFWS relied on to prepare the Biological Opinion.

Response: DOE consulted appropriately with the USFWS in the development of the Biological Opinion for remediation of Area IV and the NBZ. A Biological Opinion is prepared by the USFWS in compliance with its obligations under the Endangered Species Act. DOE initiated informal consultation with USFWS in June 2013 relative to the AOC soil cleanup in Area IV. There were seven meetings with USFWS during the informal consultation period, six attended by DTSC staff. Formal consultation started in January 2018, after DOE answered the USFWS' questions regarding the project and the AOC exemption process. There were two formal consultation meetings with USFWS in 2018. Pursuant to the USFWS Biological Opinion, the formal consultation was based on the following USFWS statement, which was provided on page 1 of its Biological Opinion: “For purposes of section 7 consultation, the AOC provides that impacts to species or habitat protected under the Endangered Species Act may be considered as possible exemptions from the cleanup standard specified herein only to the extent that the federal Fish and Wildlife Service, in response to a request by DOE for consultation, issues a Biological Opinion with a determination that implementation of the cleanup action would violate Section 7(a)2 or Section 9 of the ESA, and no reasonable and prudent measures or reasonable or prudent alternatives exist that would allow for the use of the specific cleanup standard in that portion of the site.” The USFWS prefers to work with project proponents (i.e., engage in consultation) such that the need for a jeopardy opinion can be avoided. The USFWS consults with project proponents to attempt to develop alternatives to the action, if possible, so that a jeopardy opinion would not be necessary. In a letter dated February 2, 2017, the USFWS responded to a request by DOE for technical assistance, and outlined the direct and substantial effects to the federally endangered Braunton's milk-vetch and its critical habitat that would result from a cleanup to background and recommended that DOE exercise an exemption to the AOC for the protection of the species. The exemption process that was described in the Draft EIS (page 2-18) and repeated in the SSFL Area IV Final EIS was the foundation of the consultation between DOE and USFWS, which resulted in the protection of endangered species at SSFL. Commenters provided no examples of claims of misrepresentation in the Biological Assessment, other than those addressed above regarding the AOC.

Topic F—Biological Assessment and Biological Opinion Were Not Available for the Draft EIS: Commenters stated concerns that the Biological Assessment and the Biological Opinion were not included in the SSFL Area IV Draft EIS nor made available during the Draft EIS process, nor made available during the Draft EIS process, and therefore were unavailable for review. As a consequence, commenters were concerned that the Biological Opinion has not been subjected to public scrutiny or comment. Another commenter stated that not having the Biological Opinion in the SSFL Area IV Draft EIS did not allow an opportunity for public comment, and was thus a violation of NEPA.

Response: The lack of public review of the Biological Assessment or Biological Opinion is not an issue under NEPA. DOE did not violate NEPA because of the lack of public review of the Biological Assessment or Biological Opinion. The Biological Assessment and Biological Opinion are required by the Endangered Species Act and USFWS regulations. The Biological Assessment is prepared by the project proponent for use by the USFWS in preparing the Biological Opinion. Nevertheless, the content of the Biological Assessment formed the basis of Section 3.5, Biological Resources (Affected Environment—baseline conditions) and Section 4.5, Biological Resources (Environmental Consequences—impact assessment) that were included in the SSFL Area IV Draft EIS. The exemption process for protection of endangered species that USFWS used in formulating its Biological Opinion was described in the SSFL Area IV Draft EIS (page 2-18) and therefore, was available for comment. It remained the same process as is analyzed in the SSFL Area IV Final EIS. Because the Biological Opinion is a USFWS document, its content and references are within the purview of the USFWS. The County of Los Angeles had requested that the SSFL Area IV Draft EIS be recirculated after completion of the Biological Opinion for additional public review. DOE did not recirculate the SSFL Area IV Draft EIS. Data from the USFWS Biological Opinion was integrated into this SSFL Area IV Final EIS, (for example, used to refine the extent of the areas in which the exemption process would be applied).

Topic G—Woolsey Fire Impact on the Braunton's Milk-vetch: Commenters made a number of observations regarding the Braunton's milk-vetch with respect to the Woolsey Fire. They noted that the fire burned a portion of Area IV that is identified as primary habitat for Braunton's milk-vetch. A commenter also noted that Braunton's milk-vetch is the “one endangered plant in Area IV and the NBZ. . . .” Commenters expressed the belief that because the fire had burned the Braunton's milk-vetch habitat, that there was no longer a need for an exception to cleaning up contamination in that area.

Response: These comments reflect a misunderstanding of the southern California fire ecology and this species. The milk-vetch requires soil disturbance, either by fire or mechanical means, to germinate. It exists as a plant for about 5 to 7 years producing seeds that remain in the soil until the next disturbance. The last disturbance was EPA's 2010 survey of Area IV. Species germination following that disturbance is documented, but most of those plants had completed their life cycle by the time of the recent fire. Further, not all of the remaining plants were burned by the Woolsey fire. The plant also germinated following the 2005 Topanga fire as discussed on pages 3-79 of the SSFL Area IV Final EIS. DOE is engaged in monitoring of germination and the recovery of the burned area following the 2018 fire. In compliance with the Endangered Species Act and the AOC, it remains necessary and appropriate for DOE to protect the Braunton's milk-vetch habitat.

Topic H—Woolsey Fire: Commenters expressed concern that the Woolsey fire was not included in and accounted for in the SSFL Area IV Final EIS. Commenters noted that the fire occurred before the issuance of the SSFL Area IV Final EIS and stated that the effects of the fire could therefore, have been evaluated. Using maps from the SSFL Area IV Final EIS and the DTSC Interim Summary Report of Woolsey Fire (https://bit.ly/2m2QZLc) commenters included maps in their comments reflecting their understanding of the extent of the burned area within Area IV. Citing information from DOE provided in informational emails or news articles, commenters noted that DOE initially indicated that Area IV had not been affected by the fire and later stated that 80 percent of SSFL had been burned. Commenters also noted that significant portions of SSFL were burned and hypothesized that contamination was mobilized and winds likely moved contamination to new areas. Commenters also claimed as a result of this fire that the EIS is flawed in asserting that there is no public health risk from leaving contamination in place, because there is a potential for future fires to cause offsite releases. Commenters stated that regardless of the damage to the Braunton's milk-vetch habitat, the Final EIS should have discussed the effects of the fire on baseline conditions. Further, commenters indicated that DOE has not considered the impacts of the fire on its preferred alternatives and therefore no ROD can lawfully be based on the Final EIS.

Response: Because the fire burned a portion of SSFL, DOE understands that there is concern in communities near the site about the effects of the fire on the contamination on site and the analysis in the SSFL Area IV Final EIS. The fire did not burn any Area IV buildings or any locations, either in Area IV or the NBZ with elevated soil contamination, and none of the Area IV groundwater cleanup locations were affected. Subsequent to the fire, DOE prepared a separate technical report http://www.ssflareaiveis.com that evaluates the impacts of the fire on Area IV and the NBZ and whether the fire had any effect on the analyses and conclusions in the SSFL Area IV Final EIS. In that report, DOE corrects the location of the line showing the extent of the burned portion of Area IV. The report's conclusion is that the fire had no substantive effect on the analyses in the SSFL Area IV Final EIS or on the selection of the Preferred Alternative for buildings. Because the fire did not result in substantial changes and significant new information related to the buildings (DOE NEPA regulation 40 CFR part 1502, Section 1502.9), it was determined that there was no need to prepare a Supplemental EIS or Supplement Analysis. See Topic G for the effect of the fire on the Braunton's milk-vetch.

Regarding comments that the fire resulted in the release of contamination, DOE, Boeing, and the National Aeronautics and Space Administration performed air sampling during and following the fire and DTSC, EPA, and others conducted sampling immediately post-fire. As reported in the DTSC Interim Summary Report of Woolsey Fire, measurements and analyses indicate that no radioactive or hazardous materials associated with contamination of SSFL were released by the fire. These results are reasonably consistent with those reported following the 2005 Topanga fire as presented in Section 3.9 of the SSFL Area IV Final EIS.

Topic I—Risk Assessment Process: Commenters stated that the risk assessment presented in the SSFL Area IV Final EIS was new. A commenter also claimed that the process did not follow EPA guidance.

Response: The SSFL Area IV Final EIS includes risk assessments of onsite and offsite impacts. The risk assessment presented in Appendix G of the SSFL Area IV Final EIS evaluates potential impacts on the offsite public from implementation of the building demolition and soil remediation alternatives. This analysis was new in the SSFL Area IV Final EIS. It was added in response to comments on the Draft EIS requesting a quantitative analysis of offsite impacts.

Risk assessments of onsite impacts were not new in the SSFL Area IV Final EIS (Section 4.9.1 Draft EIS). Comments related to risk assessments as they concern onsite risks associated with soil remediation, including the comment regarding EPA guidance, are not addressed in this ROD; DOE will address those comments in a future ROD for soil remediation.

Additional Topics: A number of additional topics related to the soil and groundwater remediation alternatives were identified in comments on the SSFL Area IV Final EIS. Commenters were concerned that the Preferred Alternative for soil remediation (an open space scenario based on a recreational user) was not one of the alternatives identified in the SSFL Area IV Draft EIS (January 2017) and had not been subject to public review and comment. Commenters took issue with how DOE incorporated Boeing's two Grant Deeds of Conservation Easement and Agreements (April and November 2017) and also were concerned that the alternative left large amounts of contaminated soil on site, and was inconsistent with the AOC. Commenters repeated claims that SSFL is extensively contaminated and were concerned that failing to clean soil to background would place the surrounding community at risk. Other commenters expressed support for a risk-based alternative for cleanup of Area IV and the NBZ. A commenter was concerned that the discussion of soil remediation actions does not include sufficient data or discussion to determine the elements of the Soil Remedial Action Implementation Plan (SRAIP) as required by the AOC. The commenter noted that the SSFL Area IV Final EIS fails to include sufficient information to address how DOE would conduct the remediation, the areas where soil remediation would occur, areas identified for biological and cultural exemptions, mitigation measures, and a schedule for implementation. Regarding DOE's Preferred Alternative for groundwater remediation, commenters were concerned that it would not adequately clean up groundwater and relied too much on natural attenuation.

Response: The focus of the additional topics summarized above is on the SSFL Area IV Final EIS discussion and analysis of soil and groundwater remediation. DOE is not making a decision regarding soil or groundwater remediation in this ROD. Consequently, DOE is deferring responses to these comments to a future ROD(s) announcing a decision on cleanup of soil and groundwater.

DOE Comment Review Conclusion

DOE has considered these comments and concludes that they do not present substantial changes to a proposal or significant new circumstances or information relevant to environmental concerns and bearing on the proposed action or its impacts within the meaning of 40 CFR 1502.9(c) and 10 CFR 1021.314(a) and therefore do not require preparation of a supplement analysis or a supplemental EIS.

Decision

DOE-EM has decided to implement the Building Removal Alternative, its Preferred Alternative for building demolition, as described in the SSFL Area IV Final EIS. Under this alternative, DOE-EM will prepare demolition/disposal plans for each building describing: (1) Processes for characterizing building materials for the presence of hazardous materials and radionuclides; (2) processes for collecting, handling, transporting, and disposing of debris containing hazardous materials and radionuclides; and (3) the identification of the facilities receiving the materials. The demolition/disposal plans will also describe the handling, transporting, and disposing of building debris in accordance with disposal facility waste acceptance criteria. Building demolition will be performed using standard mechanized equipment and transported using standard highway trucks. Demolition materials will be sampled for comparison with the waste acceptance criteria of the receiving facilities prior to or during building demolition. Some material will be containerized for transport. Following building removal DOE will prepare and implement plans for soil sampling beneath the building footprints. This will allow DOE to complete soil characterization and decision plans for soil and groundwater remediation.

DOE has prepared RCRA Closure Plans for the RMHF (3 buildings) and HWMF (2 buildings). DOE submitted the plans to DTSC for approval in October 2016. On August 13, 2018, DTSC announced the plans to be complete and initiated a public comment period. The public comment period ran from August 13, 2018, to October 12, 2018. The RCRA closure plans are also subject to review under the California Environmental Quality Act. In October 2017, DTSC released a draft Programmatic Environmental Impact Report describing cleanup actions for the entirety of SSFL. DOE will demolish and remove the RCRA-permitted buildings/structures at the RMHF and HWMF and clean up the sites to meet the requirements in the DTSC-approved closure plans.

In reaching this decision, DOE balanced the environmental information in the Final EIS, potential environmental impacts of building demolition and debris transportation, current and future mission needs, technical and security considerations, availability of resources, and public comments on the SSFL Area IV Draft and Final EIS. DOE no longer has a need for any of the buildings and by removing them DOE will facilitate accomplishment of its environmental management program initiatives. Some buildings still contain radionuclides imbedded in building material, and removal of the buildings with disposal of the radiological materials at a regulated facility provides long-term protection from the materials. The future land use of the Area IV property is open space/recreational, and removal of the buildings is consistent with that future land use. Removal of the buildings also allows for access to soil for final soil sampling. Building demolition and debris transportation can be conducted in a manner that is protective of the local Area IV environment and populations along the transport route. Implementing the Preferred Alternative will allow DOE to continue its progress of cleaning up legacy nuclear research properties.

Mitigation Measures

Building demolition and debris transportation could result in airborne emissions of various pollutants in diesel exhaust, and potential pollutants including radionuclides, metals, and organic constituents during demolition activities. This decision adopts the mitigation and monitoring measures relevant to building demolition that are identified in Chapter 6 of the Final EIS, the Programmatic Agreement, and the Biological Opinion. Practicable means to avoid or minimize environmental harm from the selected alternative for building demolition have been, or will be, adopted. Prior to building demolition, DOE will prepare a mitigation and monitoring plan that will address how air emissions be will minimized. Diesel emissions will be controlled through using demolition equipment and highway trucks fitted with pollution control equipment maintained to manufacturer specifications. Particulate emissions during building demolition will be controlled using best available control measures including water sprays. Toxic chemicals and radionuclides found in debris will be packaged to prevent releases during transportation. Occupational safety risks to workers will be minimized by adherence to Federal and state occupational safety laws, and DOE requirements, regulations, and orders. Workers will also be protected by use of engineering and administrative controls. Emergency preparedness will also include an Accident Preparedness Program to address protection of the public during the transportation of building materials. Storm water control best management practices will be implemented to prevent surface water runoff from demolition sites.

Signed at Washington, DC, on September 23, 2019.
William I. White,
Senior Advisor for Environmental Management to the Under Secretary for Science.

[FR Doc. 2019-21013 Filed 9-26-19; 8:45 am]

BILLING CODE 6450-01-P